DEPARTMENT OF COMMERCE

National Oceanic and Atmospheric Administration

National Sea Grant Review Panel

AGENCY: Notice correction.

SUMMARY: The National Oceanic and Atmospheric Administration published a notice in the Federal Register on Friday, October 12, 2001, announcing a public meeting scheduled for Thursday, November 8, 2001 from 8:30 a.m.-5:40 p.m. and Friday, November 9, 2001 from 8:30 a.m.-12:30 p.m. The meetings are to be held at the National Oceanic and Atmospheric Administration, Silver Spring, Metro Center III, 1315 East-West Highway, Room 4527, Silver Spring, Maryland 20910.

FOR FURTHER INFORMATION CONTACT: Dr. Ronald C. Baird, Director, National Sea Grant College Program, National Oceanic and Atmospheric Administration, 1315 East-West Highway, Room 11716, Silver Spring, Maryland 20910, (301) 713-2448.

SUPPLEMENTARY INFORMATION:

Correction

In the Federal Register issue of October 12, 2001, 66 FR 52113, on page 52114, in the first column, insert the following information in parentheses immediately following, “The agenda for the meeting is as follows”:

The Sea Grant Review Panel may, at its discretion, move the Thursday, November 8 session in its entirety from 8:30 a.m.-5:40 p.m. to 12 noon-10 p.m. The order of events will remain the same. The Sea Grant Review Panel will reconvene on Friday, November 9, 2001 at 8:30 a.m. and adjourn at 12:30 p.m. according to the previously Federal Register listing.

Louisa Koch,
Deputy Assistant Administrator, Office of Oceanic and Atmospheric Research.

[FR Doc. 01-27879 Filed 11-6-01; 8:45 am]

BILLING CODE 3510-KA-M